DEPARTMENT OF HEALTH AND HUMAN SERVICES

Office of the Secretary

[Document Identifier: HHS-OS-0990-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before December 7, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-0990-New-30D for reference.

Information Collection Request Title: Information Collection Request Title: Evaluation of the Office on Women's Health Coalition for a Healthier Community Initiative.

Abstract: This collection is to provide data for the national evaluation of the U.S. Department of Health and Human Services (HHS), Office on Women's Health (OWH) Coalition for a Healthier Community (CHC) Initiative. The initiative supports 10 communities with grants to support coalitions in implementing gender-based public health systems approaches, evidence-based health interventions, and outreach and education activities to reduce barriers to and enhance facilitators of improvements in women and girls' health. Each of the grantees has implemented an IRB-approved local evaluation; however, OWH is seeking to collect core data across grantees to examine the extent to which the Government's investment has resulted in achieving OWH-related Healthy People 2020 priorities and yields lessons learned upon which to plan future initiatives related to its mission.

Likely Respondents: The proposed collection includes plans for interviews with key staff (project directors, project coordinators, local evaluators), coalition members (including chairs and co-chairs), and community leaders connected to the coalitions. These respondents will also complete online surveys about their perceptions of the changes in their community as a result of coalition activities. Program participants and other community members exposed to the coalitions' activities through social media will also complete online surveys. Project directors and local evaluators also annually provide information to OWH on their coalition's functioning, the status of the cost-effectiveness analysis for their coalition's interventions, and the coalition's plans for sustainability. The following table summarizes the “Total Estimated Annualized Burden—Hours” by form and type of respondent.

Total Estimated Annualized Burden—Hours
Form name | Number of respondents | Number of responses per respondent | Average burden per response (in hrs) | Total burden hours
1—Key Persons Discussion Guide for Telephone Interviews | 90 | 2 | 1 | 180
2—Key Persons, Coalition Members, and Community Leaders Online Survey | 200 | 1 | 20/60 | 67
3—Coalition Participants and Other Community Members Online Survey | 510 | 1 | 20/60 | 170
4—Grantee Annual Report on Coalition Functioning, Cost-Effectiveness, and Sustainability Planning | 10 | 2 | 2 | 40
Total |  |  |  | 457

Terry Clark,
Asst Information Collection Clearance Officer.

[FR Doc. 2015-28156 Filed 11-4-15; 8:45 am]

BILLING CODE 4150-33-P